FEDERAL COMMUNICATIONS COMMISSION

47 CFR Part 73

[DA 00-2300; MM Docket No. 97-26, RM-8968, RM-9089, RM-9090; MM Docket No. 97-91, RM-8854, RM-9221]

Radio Broadcasting Services; Detroit, Howe, Jacksboro, Lewisville, Gainesville, Robinson, Corsicana, Mineral Wells TX, Antlers, Hugo, OK

AGENCY: Federal Communications Commission.

ACTION: Final rule.

SUMMARY: This document dismisses an Application for Review filed by Jerry Snyder and Associates, an Application for Review filed by Metro Broadcasters-Texas, Inc., and a Petition for Partial Reconsideration filed by Hispanic Broadcasting Corporation. This document also grants a Request for Immediate Issuance of Erratum filed by Great Plains Radiocasting to the extent of removing Channel 294C2 at Detroit, Texas. All of these pleadings were directed to the Report and Order in this proceeding. 63 FR 45182, August 25, 1997.

DATES: Effective November 28, 2000.

FOR FURTHER INFORMATION CONTACT: Robert Hayne, Mass Media Bureau, (202) 418-2177.

SUPPLEMENTARY INFORMATION: This is a synopsis of the Commission's Memorandum Opinion and Order adopted September 27, 2000, and released October 6, 2000. The full text of this decision is available for inspection and copying during normal business hours in the FCC Reference Information Center at Portals II, CY-A257, 445 12th Street, SW., Washington, DC. The complete text of this decision may also be purchased from the Commission's copy contractor, International Transcription Service, Inc., (202) 857-3805, 1231 M Street, NW., Washington, DC 20036.

List of Subjects in 47 CFR Part 73

Radio broadcasting.

Part 73 of title 47 of the Code of Federal Regulations is amended as follows:

PART 73—[AMENDED]

1. The authority citation for Part 73 continues to read as follows:

Authority: 47 U.S.C. 154, 303, 334, 336.

2. Section 73.202(b), the Table of FM Allotments, under Texas, is amended by removing Channel 294C2, Detroit.

Federal Communications Commission.
John A. Karousos,
Chief, Allocations Branch, Policy and Rules Division, Mass Media Bureau.

[FR Doc. 00-27745 Filed 10-27-00; 8:45 am]

BILLING CODE 6712-01-U